NATIONAL LABOR RELATIONS BOARD

Appointments of Individuals To Serve as Members of Performance Review Boards

5 U.S.C. 4314(c)(4) requires that the appointments of individuals to serve as members of performance review boards be published in the Federal Register. Therefore, in compliance with this requirement, notice is hereby given that the individuals whose names and position titles appear below have been appointed to serve as members of performance review boards in the National Labor Relations Board for the rating year beginning October 1, 2000, and ending September 30, 2001.

Name and Title

Richard L. Ahearn—Regional Director, Region 9

Frank V. Battle—Deputy Director of Administration

Kenneth A. Bolles—Chief Counsel to Board Member

John F. Colwell—Chief Counsel to Board Member

Harold J. Datz—Chief Counsel to the Chairman

Yvonne T. Dixon—Director, Office of Appeals

John H. Ferguson—Associate General Counsel, Enforcement Litigation

Robert A. Giannasi—Chief Administrative Law Judge

Lester A. Heltzer—Deputy Executive Secretary

John E. Higgins—Deputy General Counsel

Peter B. Hoffman—Regional Director, Region 34

Gloria Joseph—Director of Administration

Barry J. Kearney—Associate General Counsel, Advice

Richard A. Siegel—Associate General Counsel, Operations-Management

Lafe E. Solomon—Director, Office of Representation Appeals

John J. Toner—Executive Secretary

Jeffrey D. Wedekind—Deputy Chief Counsel to Board Member

Dated: Washington, D.C., January 29, 2002.
By direction of the Board.
John J. Toner,
Executive Secretary.

[FR Doc. 02-2570 Filed 2-1-02; 8:45 am]

BILLING CODE 7545-01-M